DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of February 22, 2010 through March 5, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,891; Lapp Insulators, LLC, Transmission and Distribution, Leased Workers from Will Staff, Sandersville, GA: June 2, 2008.

TA-W-71,167; Cattron-Theimeg, Inc., Leased Workers of Manpower, Career Advantage of Lawrence County, Sharpsville, PA: June 10, 2008.

TA-W-71,779; Saint-Gobain Abrasives, Inc., Leased Workers from Aerotek Staffing and Lean Initiatives, Carol Stream, IL: July 10, 2008.

TA-W-72,437; Copa Tool, Inc., Leased Workers from Kelly Services, South Lyon, MI: September 7, 2008.

TA-W-72,819; Siemens AG, Drive Technologies Division, Leased from Aerotek, Alltek Staffing etc., New Kensington, PA: November 7, 2008.

TA-W-71,977; Parker Hannifin Corporation, Hydraulic Valve Division, Leased Workers of Manpower Temporary Agency, Forest City, NC: August 6, 2008.

TA-W-70,002; Fairfield Chair Company, Foothills Temporary Agency, Lenoir, NC: May 18, 2008.

TA-W-70,821; Standby Screw Machine Products Co., Leased Workers of The Reserves Network, Berea, OH: May 28, 2008.

TA-W-70,923; Acme Architectural Products, Brooklyn, NY: June 1, 2008.

TA-W-70,932; PMG Pennsylvania Corporation, Philipsburg, PA: June 1, 2008.

TA-W-71,143; Oakdale Cotton Mills, Inc., Jamestown, NC: June 10, 2008.

TA-W-71,256; Powerex, Inc., Youngwood, PA: June 10, 2008.

TA-W-71,313; Fort Wayne Foundry Corporation, Machining Division, Fort Wayne, IN: June 16, 2008.

TA-W-71,350; International Extrusion Corporation, International Aluminum Division, Alhambra, CA: June 2, 2008.

TA-W-71,534; SP News Print, Newberg, OR: July 1, 2008.

TA-W-71,790; Fort Wayne Foundry Corporation, Cole Pattern and Engineering/Columbia City Division, Columbia City, IN: June 24, 2008.

TA-W-71,813; Getrag Corporation, Manpower, Newton, NC: July 20, 2008.

TA-W-71,865; QMS, Inc., Glasgow, KY: July 29, 2008.

TA-W-72,311; K and B Garment, Inc., San Francisco, CA: September 4, 2008.

TA-W-72,449; Dalure Fashions, Inc., Gatesville, NC: September 30, 2008.

TA-W-72,456; Applied Extrusion Technologies, Leased Workers From Express Personnel, New Castle, DE: September 24, 2008.

TA-W-72,649; Contech Castings, LLC, Leased Workers from On Staff USA, Dowagiac, MI: October 19, 2008.

TA-W-72,931; Mazer Corporation, Creative Services, Maitland, FL: November 9, 2008.

TA-W-73,173; Muller Martini Mailroom Systems, Inc., Leased Workers from McCallion Staffing and HTSS, Inc., Allentown, PA: December 15, 2008.

TA-W-72,241; Autodie, LLC, On and Off Site Individual Contractors, Grand Rapids, MI: August 31, 2008.

TA-W-72,830; ECM Transport, LLC, New Kensington, PA: November 11, 2008.

TA-W-70,950; Chrysler Group, LLC, Formerly Known As Chrysler, LLC, Leased Workers from Aerotek, Ajilon, G-Tech, Chelsea, MI: May 26, 2008.

TA-W-71,708; The Earnest Sewn Company, New York, NY: July 14, 2008.

TA-W-72,631; Jin Feng Sewing Company, Inc., San Francisco, CA: October 12, 2008.

The following certifications have been issued. The requirements of Section 222(a)(2)(B) (shift in production or services) of the Trade Act have been met.

TA-W-70,918; Agilent Technologies, Systems Product Division, Independent Contractor, Leased Workers Volt Services, Loveland, CO: June 1, 2008.

TA-W-70,988; Delphi Corporation, Delphi Holdings, Leased Workers from Securitas Interim Physicians etc., Flint, MI: June 4, 2008.

TA-W-71,159; RHI Monofrax, Ltd, Falconer, NY: June 10, 2008.

TA-W-71,290; Unison Engine Components, General Electric Aviation, ETC, Asheville, NC: May 16, 2008.

TA-W-71,386; LDS Test and Measurement, LLC, HBM LDS Test and Measurement LLC, Bruel and Kjaer, Middleton, WI: June 23, 2008.

TA-W-71,650; Evergreen Pulp, Inc., Samoa, CA: July 7, 2008.

TA-W-71,670A; Indalex, Inc., Leased Workers from Vanguard Services, Quality Drives Solutions, Personnel Plus, City of Industry, CA: July 13, 2008.

TA-W-71,670B; Indalex, Inc., Burlington, NC: July 13, 2008.

TA-W-71,670C; Indalex, Inc., Leased Workers from Gavlick Personnel and Manpower, Mountain Top, PA: July 13, 2008.

TA-W-71,670D; Indalex, Inc., Connersville, IN: July 13, 2008.

TA-W-71,670E; Indalex, Inc., Leased Workers from Proresources Staffing Services, Elkhart, IN: July 13, 2008.

TA-W-71,670F; Indalex, Inc., Leased Workers from TRC Staffing Solutions, Gainsville, GA: July 13, 2008.

TA-W-71,670G; Indalex, Inc., Kokomo, IN: July 13, 2008.

TA-W-71,670; Indalex, Inc., Elkhart, IN: July 13, 2008.

TA-W-71,804; DJO LLC, Vista, CA: June 21, 2009.

TA-W-72,113; Imerys Clays, Inc., Daniels Processing Improvement Consulting, Inc., Sandersville, GA: August 25, 2008.

TA-W-72,575; Dell Products LP, Winston-Salem (WS-1) Division, Leased Workers of Adecco, Spherion, Patriot, Winston-Salem, NC: October 13, 2008.

TA-W-72,712; Quality Spring Togo, Coldwater, MI: October 26, 2008.

TA-W-72,841; GE Oil and Gas-Conmec LLC, Energy Manufacturing, Easton, PA: November 2, 2008.

TA-W-72,855; Barnstead Thermolyne Corporation, Thermo Fisher Scientific, Leased Workers from Sedona Staffing, Dubuque, IA: November 11, 2008.

TA-W-72,888; Tektronix, Inc., On-Site Leased Workers Adecco Employment Services, Beaverton, OR: November 17, 2008.

TA-W-72,989A; Hanesbrands, Inc., Eden Textiles Operations Division, Forest City, NC: November 24, 2008.

TA-W-72,989B; Hanesbrands, Inc., Eden Textiles Operations Division, Winston-Salem, NC: November 24, 2008.

TA-W-72,989; Hanesbrands, Inc., Eden Textiles Operations Division, Eden, NC: November 24, 2008.

TA-W-73,002; Brose Gainesville, Inc., Brose International, Leased Workers Randstad, TRC, Spherion, Gainesville, GA: December 1, 2008.

TA-W-73,056; Curtiss-Wright Controls, Protemp, Long Beach, CA: December 7, 2008.

TA-W-73,143; LexisNexis, Hotdocs Division, Orem, UT: December 21, 2008.

TA-W-73,220; Schweitzer-Manduit International, Inc., Spotswood, NJ: January 6, 2010.

TA-W-73,221; Springs Window Fashions, LLC, Keystone Staffing, Spherion, Kelly, One Source, Ashford, Montgomery, PA: January 6, 2009.

TA-W-73,243; Agilent Technologies, Inc., Mobile Broadband Operation Div., Volt, Liberty Lake, WA: January 9, 2010.

TA-W-73,249; Boston Scientific, Miami Tech Center, Kelly, Bioteknica, Goode, Apollo, Miami, FL: January 11, 2009.

TA-W-73,274; AEES Grand Traverse Stamping, Leased Workers from Manpower, Traverse City, MI: January 12, 2009.

TA-W-73,291; Schneider Electric USA, Inc., Lincoln, NE: January 6, 2009.

TA-W-73,310; Optera, Inc., Manpower and Key Personnel, Holland, MI: January 18, 2009.

TA-W-73,336; AEES, Inc., Advance Employment, Aerotek, Robert Half, Career, Mattawan, MI: January 20, 2009.

TA-W-73,339; Carlisle Industrial Brake and Friction, Logansport, IN: January 20, 2009.

TA-W-73,366; LifeSparc, Inc., Hollister, CA: January 26, 2009.

TA-W-70,869; Paragon Molding, LLC, Tooling Department, West Milton, OH: May 31, 2008.

TA-W-72,670; Ericsson, Inc., Tek Systems, Vedior North America LLC, etc, Research Triangle Park, NC: October 22, 2008.

TA-W-72,998A; Bristol Myers Squibb, Indiana Technical Operations Division, Leased Workers from Aerotek, Mt. Vernon, IN: November 20, 2008.

TA-W-72,998; Bristol Myers Squibb, Indiana Technical Operations Division, Leased Workers from Aerotek, Evansville, IN: November 20, 2008.

TA-W-73,111; Monahan SFI, LLC, Middlebury, VT: December 15, 2008.

TA-W-70,730; Ameriprise Financial, Inc., Finance and Technology Business Units, etc, Minneapolis, MN: May 28, 2008.

TA-W-71,446; Applied Materials, Inc., Global Information Systems, Leased Workers From Aerotek, Pentagon Technology, Santa Clara, CA: June 25, 2008.

TA-W-71,452; International Business Machines (IBM), Global Business Services Division/Application Services Segment, Newark, NJ: June 29, 2008.

TA-W-71,796; Accenture, LLP, Information Technology Services At Best Buy, Richfield, MN: July 21, 2008.

TA-W-72,600; Unisys Corporation, Global Outsourcing and Infrastructure Services, Eagan, MN: October 15, 2008.

TA-W-72,972A; SunGard Higher Education, Inc., Consulting Practices Division, Leased Workers of Ciccariello Consulting, Malvern, PA: November 25, 2008.

TA-W-72,972B; SunGard Higher Education, Inc., Actionline Division, Leased Workers of Sicom, Malvern, PA: November 25, 2008.

TA-W-72,972; SunGard Higher Education, Inc., Development Division, Leased Workers of Intuitive, Malvern, PA: November 25, 2008.

TA-W-73,014; Schawk Retail Marketing, Chicago Div., Retouching/Digital Dept., Aquent, Creative, Chicago, IL: December 1, 2008.

TA-W-73,052; LZB Manufacturing, Inc., Fabric Processing Center/LA-Z-Boy, Inc.), Florence, SC: December 8, 2008.

TA-W-73,102A; Hewlett Packard, Personal Systems Group-Desktop, Off-Site Teleworkers Reporting to this Site, Fort Collins, CO: December 9, 2008.

TA-W-73,102B; Hewlett Packard, Personal Systems Group-Desktop, Off-Site Teleworkers Reporting to this Site, Houston, TX: December 9, 2008.

TA-W-73,102C; Hewlett Packard, Personal Systems Group-Desktop, Off-Site Teleworkers Reporting to this Site, King Of Prussia, PA: December 9, 2008.

TA-W-73,102; Hewlett Packard, Personal Systems Group-Desktop, Off-Site Teleworkers Reporting to this Site, Cupertino, CA: December 9, 2008.

TA-W-73,116; Teradyne, Inc., Semiconductor Test Div., Agoura Hills, CA: December 3, 2008.

TA-W-71,179; Citicorp Credit Services, Inc., Operations—Delivery Strategy and Development Division, Hagerstown, MD: June 8, 2008.

TA-W-72,334; International Paper Company, Shreveport Accounting Center, Shreveport, LA: September 16, 2008.

TA-W-72,513; Kaiser Foundation Hospitals, KP-IT Division, Off-Site Tele-Workers Reporting to this Location, Pasadena, CA: September 26, 2008.

TA-W-72,849; Objective Systems Integrators, Inc., Quality Assurance etc., Leased Workers Strategic Staffing & Volt Accounting, Roseville, CA: November 13, 2008.

TA-W-72,864; Cummins Business Services, Leased Workers from Manpower, Nashville, TN: November 16, 2008.

The following certifications have been issued. The requirements of Section 222(c) (supplier to a firm whose workers are certified eligible to apply for TAA) of the Trade Act have been met.

TA-W-70,716; Fuel Systems, Inc., Chicago, IL: May 19, 2008.

TA-W-70,859; Custom Tool and Die Company, Stevensville, MI: May 18, 2008.

TA-W-70,981; Amphenol Printed Circuits, Inc., Subsidiary of Amphenol Corporation, Nashua, NH: June 1, 2008.

TA-W-71,078; Noble Metal Processing—KY G.P., Noble International, Shelbyville, KY: June 8, 2008.

TA-W-71,134; Leech Industries, Inc., Leased Workers from M-Ploy Temporaries, Inc., Meadville, PA: June 3, 2008.

TA-W-71,149; ALCOA Mill Products Texarkana, Alcoa Incorporated, Nash, TX: June 11, 2008.

TA-W-71,160; TTM Technologies, Stafford Division, Stafford, CT: June 10, 2008.

TA-W-71,274; England, Inc., A LA-Z-Boy Furniture Company, Morristown, TN: June 12, 2008.

TA-W-71,351; MeadWestvaco Consumer Packaging Group LLC, Leased Workers from Manpower and Staffmark, Louisa, VA: June 22, 2008.

TA-W-71,502; Charleston Stamping and Manufacturing, Inc., Park Corporation, South Charleston, WV: June 20, 2008.

TA-W-71,587; Magna Mirrors, Division of Magna International, Inc., Alto, MI: July 6, 2008.

TA-W-71,691; National Material Company, Arnold, PA: July 13, 2008.

TA-W-71,803; Brillion Iron Works, Inc., Accuride Corporation, Brillion, WI: July 22, 2008.

TA-W-72,035; Tecstar Mfg. Company, MGS MFG Group, Leased Workers from Seek, QPS Companies and Site, Germantown, WI: August 13, 2008.

TA-W-72,147; Vantec, Inc., Leased Workers of Manpower, Webster City, IA: August 26, 2008.

TA-W-72,256; Positronic Industries, Inc., Leased Workers from Penmac and Willstaff Worldwide, Cabool, MO: September 9, 2008.

TA-W-72,366; Claude Sintz, Deshler, OH: September 16, 2008.

TA-W-72,409; Nuway Speaker Products, Inc., Ambassador Personnel, Clinton, NC: September 24, 2008.

TA-W-72,474; Marco Manufacturing, Akron Equipment Company, Akron, OH: September 30, 2008.

TA-W-72,534; Wells Manufacturing, Dura-Bar and Dura-Bar Metal Services, Leased Workers from Corporate Services, Woodstock, IL: September 25, 2008.

TA-W-72,565; Robert Bosch, LLC, Leased Workers of Bosch Management Services, St. Joseph, MI: September 16, 2008.

TA-W-72,569; Shiloh Industries, Greenfield Die and Manufacturing, Leased Workers From Legacy Staffing, Canton, MI: October 9, 2008.

TA-W-72,584; International Automotive Components (IAC), Dayton, TN: October 13, 2008.

TA-W-72,622; Standard Steel Specialty Company, Beaver Falls, PA: October 19, 2008.

TA-W-72,656; Chemtrade Performance Chemical, LLC, Chemtrade Logistics, Kalama, WA: October 22, 2008.

TA-W-72,665; Federal-Mogul Powertrain, Inc., Division of Federal-Mogul Corporation, Leased Workers of Kelly Services, Waupun, WI: October 23, 2008.

TA-W-72,674; Faurecia Automotive Seating, Inc., Harvard Resources, Auburn Hills, MI: October 20, 2008.

TA-W-72,827; Detroit Heading, LLC, Division of Shannon Precision Fasteners, Detroit, MI: November 9, 2008.

TA-W-72,928; Smith Logging, Inc., Kalispell, MT: November 20, 2008.

TA-W-73,166; Gormac Products, Inc., Racine, WI: December 28, 2008.

TA-W-70,458; April Steel Processing, Leased Workers from Sentech Employment Services, Dearborn, MI: May 10, 2008.

TA-W-71,296; Applied Materials, Inc., Boise, ID: May 19, 2008.

TA-W-71,445; Applied Materials, Inc., Sandstone, VA: June 25, 2008.

TA-W-71,448; Applied Materials, Inc., Lehi, UT: June 25, 2008.

TA-W-72,667; Fastenal Company, Heath, OH: October 23, 2008.

TA-W-72,840; GE Oil and Gas-Conmec LLC, Energy Manufacturing, Leased Workers from Turning Point Systems, Axiem, Bethlehem, PA: November 2, 2008.

The following certifications have been issued. The requirements of Section 222(c) (downstream producer for a firm whose workers are certified eligible to apply for TAA) of the Trade Act have been met.

TA-W-72,108; The Crown Group, Port Huron, MI: August 24, 2008.

TA-W-72,422; Little River Transport, St. David, ME: September 23, 2008.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W-71,774; Barriersafe Solutions International, Inc., Quality and Safety Testing Division, Reno, NV.

TA-W-73,067; Slash Support, Inc., Game House Support Workers, South Jordan, UT.

TA-W-73,132; Hyatt Regency Pittsburgh, Pittsburgh, PA.

The investigation revealed that the criteria under paragraphs (a)(2)(A)(i) (decline in sales or production, or both) and (a)(2)(B) (shift in production or services to a foreign country) of section 222 have not been met.

TA-W-71,133; DSI Underground Systems, Dywidag Systems International, Blairsville, PA.

The investigation revealed that the criteria under paragraphs (a)(2)(A) (increased imports) and (a)(2)(B) (shift in production or services to a foreign country) of section 222 have not been met.

TA-W-70,149; Dyno Nobel, Inc., Wolf Lake Plant Division, Wolf Lake, IL.

TA-W-70,177; Cascade Steel Rolling Mills, Schnitzer Steel Industries, McMinnville, OR.

TA-W-70,399; Monaco Coach Corporation, CTI Division, Hines, OR.

TA-W-70,512; T. RAD North America, Inc., Hopkinsville, KY.

TA-W-70,562; BGF Industries, Inc., Kelly Services, Manpower, Altavista, VA.

TA-W-70,845; Thomasville Furniture Industries Inc., Plant 9, Furniture Brands International, Inc., Hickory, NC.

TA-W-70,874; Advanced Industrial Machinery, Inc., Hickory, NC.

TA-W-70,920; TCS Design, Inc., Hickory, NC.

TA-W-70,965; Hearth and Homes Technologies, HNI Corporation, Mount Pleasant, IA.

TA-W-70,979; Reed Business Information, Business Media Division, Greensboro, NC.

TA-W-71,096; Taylor Wharton Cylinders, LLC, Harrisburg Plant, Harrisburg, PA.

TA-W-71,102; Global Pharmaceutical Supply Group, LLC, AKA Centocor Ortho Biotech, Div. of Johnson and Johnson, Malvern, PA.

TA-W-71,138; Schrader-Bridgeport International Incorporated, Engineered Products Div., Tomkins PLC, Altavista, VA.

TA-W-71,218; Wausau Paper Company, Appleton Plant, Appleton, WI.

TA-W-71,234; Paper Converting Machine Company, Superior Engineering and Employment, Green Bay, WI.

TA-W-71,282A; Westover Sawmill, U.S. Wood Products Division, AbitibiBowater, Westover, AL.

TA-W-71,282; Goodwater Planermill, U.S. Wood Products Division, AbitibiBowater, Goodwater, AL.

TA-W-71,469A; Acutec Precision Machining, Inc., Meadville, PA.

TA-W-71,469; Acutec Precision Machining, Inc., Saegertown, PA.

TA-W-71,572A; Severstal Wheeling, Inc., Severstal North America, Yorkville, OH.

TA-W-71,572B; Severstal Wheeling, Inc., Severstal North America, Mingo Junction, OH.

TA-W-71,572C; Severstal Wheeling, Inc., Severstal North America, Steubenville, OH.

TA-W-71,572; Severstal Wheeling, Inc., Severstal North America, Martins Ferry, OH.

TA-W-71,580; The Goodyear Tire and Rubber Company, North American Tire Division, Danville, VA.

TA-W-71,588; Weather Shield Manufacturing, Inc., Leased Workers from Manpower, Ladysmith, WI.

TA-W-71,592; DuBois Chemicals, Inc., Sharonville, OH.

TA-W-71,631; Plymouth Tube Company, Trent Division, Leased Workers from PA Staffing and Complete Services, East Troy, WI.

TA-W-71,852; Wagon Automotive, Inc., U.S. Division, Wixom, MI.

TA-W-72,225; Tube City IMS, LLC, Employed at Charter Steel, Cuyahoga Heights, OH.

TA-W-72,258; Toledo Commutator Company, Owosso, MI.

TA-W-72,356; Wolverine Broach Co., Inc., Harrison Township, MI.

TA-W-72,780; Xaloy, Inc., AKA Flametech, Seabrook, NH.

TA-W-72,809; Briggs New York, Inc., Brighton, MA.

TA-W-72,836; Iron Mountain Information Management, Inc., A Subsidiary Iron Mountain, North Billerica, MA.

TA-W-70,173; Major Tool Company, Knoxville, TN.

TA-W-70,699; McCall Refrigeration, Division of the Manitowoc Co., Parsons, TN.

TA-W-70,928; TRG Customer Solutions, Greensburg, PA.

TA-W-71,104; Ashland, Inc., Terminal Division, Pittsburgh, PA.

TA-W-71,106; Paris Accessories, Inc., Job Connections, New Smithville, PA.

TA-W-71,336; Burke Industrial Supply, Inc., Morganton, NC.

TA-W-71,544; Arencar Casting, Inc., Huron Casting Inc., Potch Staffing, Standish, MI.

TA-W-71,634; Yale Industrial Trucks-PGH, Inc., Monroeville, PA.

TA-W-71,709; Results—Las Vegas, NM, LLC, Las Vegas, NM.

TA-W-71,828; Brown Shoe Company, Inc., Fredericktown Distribution Center, Fredericktown, MO.

TA-W-72,423; Harmon Cadillac, Inc., Dayton, OH.

TA-W-72,960; Chrysler Financial Services Americas, LLC, Intermediate Holding Co, Farmington Hills, MI.

The investigation revealed that the criteria under paragraphs (b)(2) and (b)(3) (public agency acquisition of services from a foreign country) of section 222 have not been met.

TA-W-72,007; Shelby County Department of Job and Family Services, Sidney, OH.

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W-70,991; Accutherm, Inc., Monroe City, Missouri.

TA-W-71,974; Exide Technologies, Inc., Fort Smith, Arizona.

TA-W-72,604; Career Horizons, d/b/a Teleservices Direct, Indianapolis, Indiana.

TA-W-72,642; Maui Process Technologies, LLC, Makawao, Hawaii.

TA-W-73,049; Vertafore, Inc., Bothell, Washington.

TA-W-73,234; Gerber Technology, Richardson, Texas.

The following determinations terminating investigations were issued because the petitions are the subject of ongoing investigations under petitions filed earlier covering the same petitioners.

TA-W-73,643; IBM Global Services, Southbury, Connecticut, covered by TA-W-71,377; International Business Machines Corporation, Global Business Services, Southbury, Connecticut.

I hereby certify that the aforementioned determinations were issued during the period of February 22, 2010 through March 5, 2010. Copies of these determinations are available for inspection in Room N-5428, U.S. Department of Labor, 200 Constitution Avenue, NW., Washington, DC 20210 during normal business hours or will be mailed to persons who write to the above address. These determinations also are available on the Department's Web site at http://www.doleta/tradeact under the searchable listing of determinations.

Dated: April 16, 2010.
Elliott S. Kushner,
Certifying Officer, Division of Trade Adjustment Assistance.

[FR Doc. 2010-9483 Filed 4-22-10; 8:45 am]

BILLING CODE 4510-FN-P